DEPARTMENT OF THE INTERIOR

Fish and Wildlife Service

[FWS-R4-R-2009-N0094; 40136-1265-0000-S3]

Bond Swamp National Wildlife Refuge, Bibb and Twiggs Counties, GA

AGENCY: Fish and Wildlife Service, Interior.

ACTION: Notice of availability: draft comprehensive conservation plan and environmental assessment; request for comments.

SUMMARY: We, the U.S. Fish and Wildlife Service (Service), announce the availability of a draft comprehensive conservation plan and environmental assessment (Draft CCP/EA) for Bond Swamp National Wildlife Refuge (NWR) for public review and comment. In this Draft CCP/EA, we describe the alternative we propose to use to manage this refuge for the 15 years following approval of the final CCP.

DATES: To ensure consideration, we must receive your written comments by July 22, 2009.

ADDRESSES: Send comments, questions, and requests for information to: Ms. Carolyn Johnson, Assistant Refuge Manager, Piedmont and Bond Swamp NWRs, 718 Juliette Road, Hillsboro, GA 31038. The Draft CCP/EA is available on compact disk or in hard copy. The Draft CCP/EA may also be accessed and downloaded from the Service's Internet Site: http://southeast.fws.gov/planning.

FOR FURTHER INFORMATION CONTACT: Ms. Carolyn Johnson; telephone: 478/986-5441; e-mail: Piedmont@fws.gov.

SUPPLEMENTARY INFORMATION:

Introduction

With this notice, we continue the CCP process for Bond Swamp NWR. We started the process through a notice in the Federal Register on May 16, 2007 (72 FR 27586).

Background

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year strategy for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Bond Swamp NWR was established on October 16, 1989 to protect, maintain, and enhance the ecosystem of the Ocmulgee River floodplain. The refuge did not open for public use until 1999. The original land was purchased through cooperative efforts of the Service and The Nature Conservancy. Currently, Bond Swamp NWR consists of approximately 7,348 acres. We own 6,276 acres in fee title, and we manage an additional 1,072 acres through an agreement with the State of Georgia. Within this agreement, we also manage Brown's Mount, a historic/cultural site that encompasses 165 acres of upland forest. An expansion proposal in 1999 established the present acquisition boundary, extending from the current refuge boundaries to the north, west, and especially south. The approved acquisition area includes portions of Bibb and Twiggs Counties, Georgia, and encompasses approximately 18,000 acres of bottomland and adjacent upland habitats along the Ocmulgee River, representative of those already managed.

Significant issues addressed in the Draft CCP/EA include: wildlife management, habitat management, feral hog removal, land acquisition, public access, hunting, staffing, and funding.

CCP Alternatives, Including Our Proposed Alternative

We developed three alternatives for managing the refuge and chose Alternative C as the proposed alternative. A full description of each alternative is in the Draft CCP/EA. We summarize each alternative below.

Alternative A—No Action Alternative

Bond Swamp NWR would continue to be managed as it is at present—there would be no change to refuge management. We would continue to provide a minimum of 4,000 acres of winter flooded bottomland forest habitat for wintering waterfowl. There would be no active effort to inventory wintering waterfowl populations. Wood ducks would not be banded. Wetlands would not be managed for waterfowl habitat enhancement. There would be no management of forest-dependent landbirds. Active colonial nesting waterbird rookeries would continue to be protected from human disturbance. No active management of amphibians and reptiles would occur. Neither black bear nor bat surveys would be conducted. With regard to managing species of concern, we would continue to provide a buffer zone around the existing bald eagle nest on Stone Creek. To control invasive animals, there would be limited feral hog hunting, with a harvest of 50-200 hogs per year.

There would be no active forest management. We would continue to implement the current Fire Management Plan that calls for suppression as the only appropriate management response. There would be no active management of open water or wetlands. Invasive plant species would not be actively controlled. No active management of roadsides and rights-of-way would occur.

We would continue to comply with Section 106 of the National Historic Preservation Act, but there would be no additional active cultural resources management. Cooperation with the Muscogee Creek Nation in management and protection of Traditional Cultural Properties would continue.

Under Alternative A, we would continue to share law enforcement officers with Piedmont NWR, with approximately 700 hours annually dedicated to Bond Swamp NWR for patrols, trespass and cultural resources enforcement, and hunting/fishing compliance checks. With regard to managing environmental contamination, we would continue to cooperate with State and Federal authorities in periodic surveys of water quality and contaminant levels in water, sediments, and fish tissues. With regard to hydrologic function, input to the Ecological Services Office in Athens, Georgia, on Section 404 permit applications would continue to be provided. We would also continue to pursue opportunities for land acquisition as they occur within the approved acquisition boundary, but at a low rate.

Under Alternative A, we would continue to serve the public with a Hunt Plan and Law Enforcement Plan, but without a Visitor Services Plan. We would continue to operate with current levels of contact facilities and information, such as signage, parking lots, kiosks, and trails. Existing vehicular access would be maintained via State and county roads on the east side of the refuge; there would be no public access on the west side of the refuge. Public access by boat would continue to be limited.

The priority public recreational uses of the National Wildlife Refuge System (e.g., hunting, fishing, wildlife observation, wildlife photography, and environmental education and interpretation) would continue at Bond Swamp NWR under Alternative A. A non-quota, 23-day archery deer and hog hunt, and a 36-day hog-only firearm hunt would continue to be provided every fall. Limited bank fishing on the east side of the refuge would continue from March 15-October 15. Wildlife observation and photography along the Beaver Swamp and Longleaf Pine Trails would be allowed. Brown's Mount would remain closed to all public access. Very limited environmental education and interpretation would continue on- and off-refuge. We would continue to provide news releases about refuge events and phenomena as appropriate.

The refuge operations specialist position assigned to Bond Swamp NWR, based out of Piedmont NWR, would be abolished. We would continue to partner with the Georgia Department of Natural Resources, the Georgia Forestry Commission, and the Muscogee Creek Nation on refuge and cultural management questions. No volunteers would be used. Bond Swamp NWR would continue to be administered from Piedmont NWR. Limited facilities would be maintained and maintenance would be conducted, using Piedmont NWR's equipment.

Alternative B—Custodian Management

The focus of Alternative B would be custodial management in which we would cease all active management of upland and wetland habitats at Bond Swamp NWR, employing “passive management” instead. Management of fish and wildlife populations would be identical to Alternative A. We would continue to provide a minimum of 4,000 acres of winter flooded bottomland forest habitat for wintering waterfowl. There would be no active effort to inventory or census wintering waterfowl populations. Wood ducks would not be banded. Wetlands would not be managed for waterfowl habitat enhancement. There would be no management of forest-dependent landbirds. Active colonial nesting waterbird rookeries would continue to be protected from human disturbance. No active management of amphibians and reptiles would occur. Neither black bear nor bat surveys would be conducted. With regard to managing species of concern, we would continue to provide a buffer zone around the existing bald eagle nest on Stone Creek. With regard to controlling invasive animals, there would be continued limited feral hog hunting with a harvest of 50-200 hogs per year.

Habitat management would be identical as under Alternative A. There would be no active forest management. We would continue implementing the current Fire Management Plan, which calls for suppression as the only appropriate management response. There would be no active management of open water or wetlands. Invasive plant species would not be actively controlled. No active management of clearings and rights-of-way would occur.

As under Alternative A, we would continue to comply with Section 106 of the National Historic Preservation Act, but there would be no additional active cultural resources management. Cooperation with the Muscogee Creek Nation in management and protection of Traditional Cultural Properties would continue.

Alternative B would reduce the hours of the law enforcement officer from Alternative A, and focus would be on trespass and cultural resources enforcement. Managing environmental contamination would be identical to Alternative A; we would continue to cooperate with State and Federal authorities in periodic surveys of water quality and contaminant levels in water, sediments, and fish tissues. With regard to hydrologic function, we would continue to provide input to Ecological Services, but at a reduced level. There would be no additional land acquisition over the life of the CCP.

We would continue to operate with only a Law Enforcement Plan and a Hunt Plan, but no Visitor Services Plan. The refuge would continue to be open to the public, with no maintained facilities. With regard to access, foot travel would be invited but no trails, trailheads, or roads would be maintained.

The priority public recreational uses of the National Wildlife Refuge System would continue in a limited way or be eliminated altogether at Bond Swamp NWR under Alternative B. Hunting would be the same as in Alternative A—non-quota, 23-day archery deer and hog hunts, and a 36-day hog-only firearm hunt would continue to be provided every fall—or administration of hunts would be offered to the Georgia Department of Natural Resources. Fishing would be the same as under Alternative A—limited bank fishing on the east side of the refuge would continue from March 15-October 15. Trails would cease to be maintained, but visitors could still view and photograph wildlife opportunistically throughout the refuge. Environmental/cultural education and interpretive programs would be eliminated, and there would be no outreach.

With regard to staffing, there would be no dedicated full-time positions for Bond Swamp NWR. As under Alternative A, we would continue to partner with the Georgia Department of Natural Resources, the Georgia Forestry Commission, and the Muscogee Creek Nation on refuge and cultural management questions. No volunteers would be used. Bond Swamp NWR would continue to be administered from Piedmont NWR.

Alternative C—Enhanced Biological/Visitor Service (Proposed Alternative)

Alternative C would emphasize enhanced biological programs and visitor services. Alternative C would increase our contribution to the Atlantic Coast Joint Venture (ACJV) of the North American Waterfowl Management Plan by adding 1,000 acres of winter flooded bottomland forest habitat through acquisition for management of wintering waterfowl. The mid-winter waterfowl survey would be reinstated in cooperation with the Georgia Department of Natural Resources. Fifty wood ducks would be annually banded between July 1 and September 20. Within 5 years of CCP approval, sites within the ACJV focus areas conducive to waterfowl habitat enhancement and feasible types of manipulation would be identified. For the duration of the CCP, within the context of forest planning, priority landbirds (e.g., species of concern from Partners in Flight) would be considered when implementing silvicultural treatments. Colonial nesting waterbirds would be managed the same as under Alternative A—active rookeries would continue to be protected from human disturbance. In addition, rookery sites would be incorporated in forest management planning to protect active nesting areas during forestry operations. Rookeries would be actively improved by providing platforms and/or natural structures.

Within 10 years of CCP approval, baseline surveys of reptiles and amphibians would be conducted, using a variety of techniques. Alligator surveys would be conducted in conjunction with the State. Within 5 years of CCP approval, we would cooperate with the Georgia Department of Natural Resources to conduct annual surveys of black bears on the refuge, contributing to our knowledge of central Georgia bear population. Within 5 years of CCP approval, the diversity and relative occurrence of bats would be documented through use of proper inventory and survey methods. Within 5 years of CCP approval, and on a regular basis subsequently, periodic targeted surveys for listed species of plants and animals would be conducted in cooperation with partners. We would implement a feral hog management plan within 1 year of CCP approval, resulting in increased hog harvest.

Within 10 years of CCP approval, the desired future conditions for habitats of Bond Swamp NWR would be defined and a Forest Management Plan would be developed. This would include appropriate forest inventory and silvicultural treatments deemed necessary for attaining desired future conditions and improving forest habitats for migratory birds, threatened and endangered species, and other trust resources. A new Fire Management Plan would be developed within 10 years of CCP approval that may allow for prescribed fire for habitat improvement.

Within 10 years of CCP approval, we would inventory and identify potential sites for establishment of greentree reservoirs to benefit wintering waterfowl in open water/wetland areas. Within 5 years of CCP approval, an Integrated Pest Management Plan would be prepared that would identify, inventory, prioritize, and suggest appropriate control methods. We would collaborate with the Georgia Power Company to maintain open habitats within rights-of-way to benefit butterflies and certain bird species (e.g., indigo buntings and blue grosbeaks). Opening the forest canopy beside some road segments in the refuge road system to increase understory structure would be considered.

As under Alternative A, we would continue to comply with Section 106 of the National Historic Preservation Act, but there would be no additional active cultural resources management. Cooperation with the Muscogee Creek Nation in management and protection of Traditional Cultural Properties would continue. Additionally, within 10 years of CCP approval, a Phase I cultural resources survey of the refuge would be implemented, and within 15 years of CCP approval, the refuge would develop and begin to implement an Integrated Cultural Resources Management Plan.

A law enforcement officer would be added for Bond Swamp NWR, working 2,080 hours per year in boundary work, public safety, and cultural resources identification and protection. This would be in addition to the same tasks as identified under Alternative A—patrols, trespass and cultural resources enforcement, and hunting/fishing compliance checks.

For the duration of the CCP, we would cooperate with State and local government agencies and non-governmental organizations to characterize status of refuge waters and fish species with regard to environmental contamination issues, such as presence and levels of toxins. Fish consumption advisories would be posted as appropriate. With regard to hydrologic function, as under Alternative A, input to the Service's Ecological Services Office in Athens, Georgia, on Section 404 permit applications would continue to be provided. Additionally, communication with the Ecological Services Office would be improved to provide more effective input and to safeguard the refuge's interests. Partnerships and funding would be pursued to obtain a North American Wetland Conservation Act grant through the ACJV to increase land acquisition within the refuge boundary.

Within 3 years of CCP approval, a Visitor Services Plan would be prepared and implemented to provide overall management guidance for public use on the refuge. We would work with State and county partners to improve directional signage, kiosks, and parking lots. Within the 15-year life of the CCP, access on the east side would be improved by working with the Georgia Department of Transportation and the Federal Highway Administration to install turning lanes at entrances, improve Stone Creek Road, and provide boat and canoe/kayak access to Stone Creek. Vehicular access on the west side of the refuge would be opened by locating a right-of-way. We also would work with the Georgia Department of Natural Resources to locate a boat ramp along the Ocmulgee River.

The priority public recreational uses of the National Wildlife Refuge System would continue at Bond Swamp NWR under Alternative C. Within 5 years of settlement of a lawsuit against the Service, which is now being litigated, we would maintain or expand existing hunts and add small game, wild turkey, and waterfowl hunts. The west side of the refuge would be opened to hunting, once access is provided.

Within 3-5 years of CCP approval, fishing opportunities would be improved through increased access on the east and west sides of the refuge. At primary parking and boat launch areas, health advisories related to consuming fish would be posted. We would work with the Georgia Department of Natural Resources to consider methods for controlling flathead catfish.

Within 10 years of CCP approval, a canoe trail on Stone Creek would be developed, the viewshed at the Brown's Mount overlook would be improved, and a boardwalk along Stone Creek would be developed.

In cooperation with partners, an educational program would be developed and implemented that would provide an understanding and appreciation of the refuge's ecology and historic and present human influence on the region's ecosystems. A full-time park ranger would be added to manage the program. We would identify potential outreach events and decide which could provide the greatest return on investment, limiting participation to those events only. As time allows, programs would be presented to local groups (e.g., civic, library, garden clubs, and schools).

The refuge operations specialist and park ranger would be reinstated; a law enforcement officer, a forestry technician, and an engineering equipment operator would be added. In addition to partnerships with the Georgia Department of Natural Resources, the Georgia Forestry Commission, and the Muscogee Creek Nation, as under Alternative A, we would actively participate with local partnerships in resource conservation and land planning, such as Ocmulgee Heritage Greenway, and cooperate with non-governmental organizations and other organizations. Within 15 years of CCP approval, we would plan and construct an office and maintenance yard east of State Route 23. Equipment, such as a tractor, backhoe, 5 trucks, a johnboat with motor, 1 four-wheeler, and trailer, would be acquired.

Next Step

After the comment period ends, we will analyze the comments and address them.

Public Availability of Comments

Before including your address, phone number, e-mail address, or other personal identifying information in your comment, you should be aware that your entire comment—including your personal identifying information—may be made publicly available at any time. While you can ask us in your comment to withhold your personal identifying information from public review, we cannot guarantee that we will be able to do so.

Authority

This notice is published under the authority of the National Wildlife Refuge System Improvement Act of 1997, Public Law 105-57.

Dated: May 17,2009.
Cynthia K. Dohner,
Acting Regional Director.

[FR Doc. E9-14567 Filed 6-19-09; 8:45 am]

BILLING CODE 4310-55-P